DEPARTMENT OF ENERGY

[Case Number 2020-001; EERE-2020-BT-WAV-0005]

Energy Conservation Program: Notice of Petition for Waiver of Hoshizaki America, Inc. From the Department of Energy Automatic Commercial Ice Makers Test Procedure and Grant of Interim Waiver

AGENCY: Office of Energy Efficiency and Renewable Energy, Department of Energy.

ACTION: Notice of petition for waiver and grant of an interim waiver; request for comments.

SUMMARY: This notice announces receipt of and publishes a petition for waiver and interim waiver from Hoshizaki America, Inc. (“Hoshizaki”), which seeks a waiver for specified Automatic Commercial Ice Maker (“ACIM”) basic models from the U.S. Department of Energy (“DOE”) test procedure used for determining the energy use of ACIM. DOE also gives notice of an Interim Waiver Order that requires Hoshizaki to test and rate the specified ACIM basic models in accordance with the alternate test procedure set forth in the Interim Waiver Order. DOE solicits comments, data, and information concerning Hoshizaki's petition and its suggested alternate test procedure so as to inform DOE's final decision on Hoshizaki's waiver request.

DATES: The Interim Waiver Order is effective on July 23, 2020. Written comments and information will be accepted on or before August 24, 2020.

ADDRESSES: Interested persons are encouraged to submit comments using the Federal eRulemaking Portal at http://www.regulations.gov. Alternatively, interested persons may submit comments, identified by case number “2020-001”, and Docket number “EERE-2020-BT-WAV-0005,” by any of the following methods:

• Federal eRulemaking Portal: http://www.regulations.gov. Follow the instructions for submitting comments.

• Email: Hoshizaki2020WAV0005@ee.doe.gov. Include Case No. 2020-001 in the subject line of the message.

• Postal Mail: Appliance and Equipment Standards Program, U.S. Department of Energy, Office of Energy Efficiency and Renewable Energy, Building Technologies Office, Mailstop EE-5B, Petition for Waiver Case No. 2020-001, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, 6th floor, Washington, DC, 20024. Telephone: (202) 287-1445. If possible, please submit all items on a CD, in which case it is not necessary to include printed copies.

No telefacsimilies (“faxes”) will be accepted. For detailed instructions on submitting comments and additional information on this process, see the SUPPLEMENTARY INFORMATION section of this document.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/docket?D=EERE-2020-BT-WAV-0005. The docket web page contains instruction on how to access all documents, including public comments, in the docket. See the SUPPLEMENTARY INFORMATION section for information on how to submit comments through http://www.regulations.gov.

FOR FURTHER INFORMATION CONTACT: Ms. Lucy deButts, U.S. Department of Energy, Office of Energy Efficiency and Renewable Energy, Building Technologies Office, Mailstop EE-5B, 1000 Independence Avenue SW, Washington, DC 20585-0121. Email: AS_Waiver_Request@ee.doe.gov.

Ms. Amelia Whiting, U.S. Department of Energy, Office of the General Counsel, Mail Stop GC-33, Forrestal Building, 1000 Independence Avenue SW, Washington, DC 20585-0103. Telephone: (202) 586-2588. Email: amelia.whiting@hq.doe.gov.

SUPPLEMENTARY INFORMATION: DOE is publishing Hoshizaki's petition for waiver in its entirety, pursuant to 10 CFR 431.401(b)(1)(iv).¹ DOE invites all interested parties to submit in writing by August 24, 2020, comments and information on all aspects of the petition, including the alternate test procedure. Pursuant to 10 CFR 431.401(d), any person submitting written comments to DOE must also send a copy of such comments to the petitioner. The contact information for the petitioner is Stephen Schaefer, STSchaefer@hoshizaki.com, 618 Hwy. 74 South, Peachtree City, GA 30269.

¹ The petition did not identify any of the information contained therein as confidential business information.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: One copy of the document marked confidential including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on July 17, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 20, 2020.
Treena V. Garrett,
Federal Register Liaison Officer, U.S. Department of Energy.

Case Number 2020-001

Interim Waiver Order

I. Background and Authority

The Energy Policy and Conservation Act, as amended (“EPCA”),² authorizes the U.S. Department of Energy (“DOE”) to regulate the energy efficiency of a number of consumer products and certain industrial equipment. (42 U.S.C. 6291-6317) Title III, Part C ³ of EPCA established the Energy Conservation Program for Certain Industrial Equipment, which sets forth a variety of provisions designed to improve energy efficiency. This equipment includes ACIMs, the subject of this Interim Waiver Order. (42 U.S.C. 6311(1)(F))

² All references to EPCA in this document refer to the statute as amended through America's Water Infrastructure Act of 2018, Public Law 115-270 (Oct. 23, 2018).

³ For editorial reasons, upon codification in the U.S. Code, Part C was redesignated as Part A-1.

The energy conservation program under EPCA consists essentially of four parts: (1) Testing, (2) labeling, (3) Federal energy conservation standards, and (4) certification and enforcement procedures. Relevant provisions of EPCA include definitions (42 U.S.C. 6311), energy conservation standards (42 U.S.C. 6313), test procedures (42 U.S.C. 6314), labeling provisions (42 U.S.C. 6315), and the authority to require information and reports from manufacturers (42 U.S.C. 6316).

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the covered equipment complies with relevant standards promulgated under EPCA. (42 U.S.C. 6316(a); 42 U.S.C. 6295(s))

Under 42 U.S.C. 6314, EPCA sets forth the criteria and procedures DOE is required to follow when prescribing or amending test procedures for covered equipment. EPCA requires that any test procedures prescribed or amended under this section must be reasonably designed to produce test results which reflect the energy efficiency, energy use or estimated annual operating cost of covered equipment during a representative average use cycle and requires that test procedures not be unduly burdensome to conduct. (42 U.S.C. 6314(a)(2)) The test procedure for ACIM is contained in the Code of Federal Regulations (“CFR”) at 10 CFR 431.134, Uniform Test Methods for the Measurement of Energy and Water Consumption of Automatic Commercial Ice Makers.

Under 10 CFR 431.401, any interested person may submit a petition for waiver from DOE's test procedure requirements. DOE will grant a waiver from the test procedure requirements if DOE determines either that the basic model for which the waiver was requested contains one or more design characteristics that prevents testing of the basic model according to the prescribed test procedures, or that the prescribed test procedures evaluate the basic model in a manner so unrepresentative of its true energy consumption characteristics as to provide materially inaccurate comparative data. See 10 CFR 431.401(f)(2). A petitioner must include in its petition any alternate test procedures known to the petitioner to evaluate the performance of the equipment type in a manner representative of the energy consumption characteristics of the basic model. See 10 CFR 431.401(b)(1)(iii). DOE may grant the waiver subject to conditions, which may include adherence to alternate test procedures specified by DOE. 10 CFR 431.401(f)(2).

As soon as practicable after the granting of any waiver, DOE will publish in the Federal Register a notice of proposed rulemaking to amend its regulations so as to eliminate any need for the continuation of such waiver. See 10 CFR 431.401(l). As soon thereafter as practicable, DOE will publish in the Federal Register a final rule to that effect. Id.

The waiver process also provides that DOE may grant an interim waiver from the test procedure requirements if it appears likely that the underlying petition for waiver will be granted and/or if DOE determines that it would be desirable for public policy reasons to grant immediate relief pending a determination on the underlying petition for waiver. See 10 CFR 431.401(e)(2). Within one year of issuance of an interim waiver, DOE will either: (i) Publish in the Federal Register a determination on the petition for waiver; or (ii) publish in the Federal Register a new or amended test procedure that addresses the issues presented in the waiver. See 10 CFR 431.401(h)(1).

When DOE amends the test procedure to address the issues presented in a waiver, the waiver will automatically terminate on the date on which use of that test procedure is required to demonstrate compliance. See 10 CFR 431.401(h)(2).

II. Hoshizaki's Petition for Waiver and Interim Waiver

On January 28, 2020, Hoshizaki filed a petition for waiver and interim waiver from the test procedure for ACIM set forth at 10 CFR 431.134. Hoshizaki additionally provided technical information to support its waiver petition in communications to DOE on February 13, 2020, and March 19, 2020.⁴ Hoshizaki noted that the DOE ACIM test procedure requires that the ice bin of a unit under test be one-half full of ice prior to the test. Specifically, Hoshizaki cited the test condition in section 6.5 of American Society of Heating, Refrigerating and Air-Conditioning Engineers (“ASHRAE”) Standard 29-2009, Method of Testing Automatic Ice Makers (“ASHRAE Standard 29-2009”), which is incorporated by reference in the DOE ACIM test procedure. See 10 CFR 431.133 and 431.134(b). Section 6.5 of ASHRAE Standard 29-2009 requires in relevant part that “Bins shall be used when testing and shall be filled one-half full with ice.” Additionally, the DOE ACIM test procedure requires, through reference to section 7.2.1 of ASHRAE Standard 29-2009, that ice produced during the collection period be “intercepted” from the half-full bin for the purpose of determining the capacity of the unit under test.

⁴ See documents in the Docket No. EERE-2020-BT-WAV-0005 available on http://www.regulations.gov.

Hoshizaki stated that in the basic models for which it is requesting a waiver,⁵ the ice bin is situated in a position that is between the production and dispensing areas of the units. Specifically, Hoshizaki stated that the basic models are continuous type ice makers that have a self-contained bin situated just above the evaporator compartment that produces the ice and that a unique design characteristic of these models is that the ice is pushed up through the evaporator directly into the bottom of a bin. Hoshizaki claimed that, because the ice bin is situated just above the evaporator and that ice is pushed up through the evaporator directly into the bottom of the bin, filling the ice bin one-half full of ice prior to the test makes it impossible to test ice harvest accurately. Hoshizaki stated that all other ice makers on the market fill ice bins using gravity or a transport hose to move ice from the evaporator into a bin area, which allows for placing a container in the ice bin prior to testing to segregate the ice harvested in the test from the ice added to the ice bin to satisfy the half-full requirement prior to testing. Hoshizaki claimed that, because ice is formed in the evaporator and pushed up to the bottom of the ice bin for the specified models, one cannot intercept the ice produced during the collection period. Additionally, Hoshizaki stated that accessing ice through the dispenser further interferes with separating ice produced during the collection period from any ice in the bin at the start of the test. Hoshizaki asserted that the inability to segregate “fill-ice” from “produced ice” within the bin could lead to inaccurate measurements because of fill-ice placed in the bin prior to the collection period being captured in the test sample.

⁵ The specific basic models for which the petition applies are ACIM basic models DCM-270BAH and DCM-270BAH-OS. These basic model names were provided by Hoshizaki in its January 28, 2020 petition.

The DOE ACIM test procedure also incorporates by reference Air-Conditioning, Heating, and Refrigeration Institute (“AHRI”) Standard 810-2007 with Addendum 1, Performance Rating of Automatic Commercial Ice-Makers, (“AHRI 810-2007”). See 10 CFR 431.133 and 431.134(b). Section 4.1.4 of AHRI 810-2007 requires that the test unit be set up per the manufacturer's written instructions, and that no adjustments of any kind shall be made to the test unit prior to or during the test that would affect the ice capacity, energy usage, or water usage of the test sample. In its petition for waiver, Hoshizaki requested that the specified basic models be modified for testing by inserting a bracket to hold the dispenser shutter open during the test. In response to DOE questions on this request, Hoshizaki stated that ice is only accessible to the user through use of the dispenser, and that the dispenser assembly includes a safeguard that prevents dispensing for longer than 20 seconds when activated by button or sensor. Hoshizaki stated that the requested bracket installation would hold the dispenser shutter open, allowing for dispensing of ice throughout the test. Hoshizaki also asserted that the installation of the bracket rather than typical dispenser operation does not bypass any typical dispensing motor operation within the unit.

Hoshizaki also requests an interim waiver from the existing DOE test procedure. DOE will grant an interim waiver if it appears likely that the petition for waiver will be granted, and/or if DOE determines that it would be desirable for public policy reasons to grant immediate relief pending a determination of the petition for waiver. See 10 CFR 431.401(e)(2).

Based on the assertions in the petition, absent an interim waiver, Hoshizaki asserts that the ACIM basic models it identified in its petition for a waiver cannot be tested and rated for energy consumption on a basis representative of their actual energy consumption characteristics. Hoshizaki claimed that it cannot accurately perform the ice harvest test with the bin half full for the specified models, as is required by the DOE test procedure (i.e., the ice cannot be intercepted in the collection container by “catching” the ice produced, as is typically done for gravity-fed ice bins), or without modifying the test unit to allow for continuous ice collection through the dispenser.

III. Requested Alternate Test Procedure

EPCA requires that manufacturers use DOE test procedures when making representations about the energy consumption and energy consumption costs of covered equipment. (42 U.S.C. 6314(d)) Consistency is important when making representations about the energy efficiency of covered equipment, including when demonstrating compliance with applicable DOE energy conservation standards. Pursuant to 10 CFR 431.401, and after consideration of public comments on the petition, DOE may establish in a subsequent Decision and Order an alternate test procedure for the basic models addressed by the interim waiver.

Hoshizaki seeks to use an alternate test procedure to test and rate specific ACIM basic models. Hoshizaki specifically requests to test the specified basic models by: (1) Removing the front panel to the ice maker, (2) inserting a bracket to hold the shutter open during test (shutter must be completely open to allow for dispensing of ice during test), (3) replacing the front panel, and (4) starting the stabilization and capacity test with the bin empty.

IV. Interim Waiver Order

DOE has reviewed Hoshizaki's application for an interim waiver, the alternate test procedure requested by Hoshizaki, specification and parts sheets for the specified basic models, and additional technical correspondence.

Based on this review, DOE tentatively agrees with the claims outlined in Hoshizaki's petition as discussed in section II of this order, and the alternate test procedure suggested by Hoshizaki appears to allow for the accurate measurement of the energy use of the specified basic models, while alleviating the testing problems associated with Hoshizaki's implementation of DOE's test procedure for these basic models. Consequently, DOE has determined that Hoshizaki's petition for waiver likely will be granted. Furthermore, DOE has determined that it is desirable for public policy reasons to grant Hoshizaki immediate relief pending a determination of the petition for waiver.

For the reasons stated, it is Ordered that:

(1) Hoshizaki must test and rate the following Automatic Commercial Ice Maker (“ACIM”) basic models with the alternate test procedure set forth in paragraph (2).

Brand | Basic model
Hoshizaki | DCM-270BAH.
Hoshizaki | DCM-270BAH-OS.

(2) The alternate test procedure for the Hoshizaki basic models identified in paragraph (1) of this Interim Waiver Order is the test procedure for ACIM prescribed by DOE at 10 CFR 431.134, except that the test unit setup and initial conditions are modified, as detailed below. All other requirements of the test procedure at 10 CFR 431.134 and DOE's regulations remain applicable.

Prior to the start of the test, remove the front panel of the unit under test and insert a bracket to hold the shutter (which allows for the dispensing of ice during the test) completely open for the duration of the test. After inserting the bracket, return the front panel to its original position on the unit under test. Conduct the test procedure as specified in 10 CFR 431.134 except that the ice bin for the unit under test shall be empty at the start of the test and intercepted ice samples shall be obtained at the outlet of the ice dispenser.

(3) Representations. Hoshizaki may not make representations about the energy use of a basic model listed in paragraph (1) for compliance, marketing, or other purposes unless the basic model has been tested in accordance with the provisions in this alternate test procedure and such representations fairly disclose the results of such testing according to the requirements in 10 CFR 429.45.

(4) This Interim Waiver Order shall remain in effect according to the provisions of 10 CFR 431.401.

(5) This Interim Waiver Order is issued to Hoshizaki on the condition that the statements, representations, specification sheets, and documents provided by Hoshizaki are valid. If Hoshizaki makes any modifications to the controls or configurations of a basic model subject to this Interim Waiver Order, such modifications will render the waiver invalid with respect to that basic model, and Hoshizaki will either be required to use the current Federal test method or submit a new application for a test procedure waiver. DOE may rescind or modify this waiver at any time if it determines the factual basis underlying the petition for the Interim Waiver Order is incorrect, or the results from the alternate test procedure are unrepresentative of the basic model's true energy consumption characteristics. 10 CFR 431.401(k)(1). Likewise, Hoshizaki may request that DOE rescind or modify the Interim Waiver Order if Hoshizaki discovers an error in the information provided to DOE as part of its petition, determines that the interim waiver is no longer needed, or for other appropriate reasons. 10 CFR 431.401(k)(2).

(6) Issuance of this Interim Waiver Order does not release Hoshizaki from the certification requirements set forth at 10 CFR part 429.

DOE makes decisions on waivers and interim waivers for only those basic models specifically set out in the petition, not future models that may be manufactured by the petitioner. Hoshizaki may submit a new or amended petition for waiver and request for grant of interim waiver, as appropriate, for additional basic models of ACIM. Alternatively, if appropriate, Hoshizaki may request that DOE extend the scope of a waiver or an interim waiver to include additional basic models employing the same technology as the basic model(s) set forth in the original petition consistent with 10 CFR 431.401(g).

Signed in Washington, DC, on July 17, 2020.

Alexander N. Fitzsimmons,

Deputy Assistant Secretary for Energy Efficiency Energy Efficiency and Renewable Energy.

HOSHIZAKI AMERICA, INC.

January 28, 2020

U.S. Department of Energy

Building Technologies Program, Test Procedure Waiver

1000 Independence Avenue SW, Mailstop EE-SB,

Washington, DC 20585-0121

Re: Notice of petition for waiver, petition of interim waiver, and request for public comment

Pursuant to 10 CFR 431.401, Hoshizaki America, Inc. respectfully requests expedited attention to this Petition for both an interim waiver and final waiver to modify the DOE test procedure (10 CFR 431 Subpart H) for Hoshizaki America, Inc. in relation to ice/water dispenser products DCM-270BAH and DCM-270BAH-OS and future iterations. The reason for this is to amend the test protocol to allow these products to be tested with an empty bin instead of a half full bin as directed by ASHRAE 29-2009 Method of Testing Automatic Ice Makers. This request would allow accurate measurement of the ice produced for the test in ASHRAE 29-2009 Method of Testing Automatic Ice Makers. Hoshizaki America, Inc. submits that this product is unique in its design and it cannot accurately perform the ice harvest test with the bin half full.

10 CFR 431.401 provides that a manufacturer may submit a petition to waive a requirement of 10 CFR 431 subpart H upon grounds that the basic model contains one or more design characteristics which either prevent testing of the basic model according to the prescribed test procedures, or the prescribed test procedures may evaluate the basic model in a matter so unrepresentative of its true energy consumption characteristics as to provide materially inaccurate comparative data. Hoshizaki America requests that DOE grant this Petition on both grounds for the reasons set forth below.

1. Petitioner

Hoshizaki America, Inc. is a subsidiary of Hoshizaki Corporation. Hoshizaki America's corporate headquarters is located in Peachtree City, Georgia and was founded in 1986. Hoshizaki is the world leader in Commercial Ice Makers. Hoshizaki America designs and manufactures Commercial Ice Makers and Commercial Refrigerators/Freezers in both Peachtree City, Georgia and Griffin, Georgia. The Brand Name for Hoshizaki America is Hoshizaki. Additional information can be found at http://www.hoshizakiamerica.com.

2. Background

The DCM-270BAH and DCM-270BAH-OS are continuous type ice makers that have a self-contained bin situated just above the evaporator compartment that produces the ice. These models are manufactured at Hoshizaki America's Peachtree City, Georgia facility, and are for dispensing ice and/or water into cups, pitchers, or other serving apparatuses on demand. A unique design characteristic of this machine is the ice is pushed up through the evaporator directly into the bottom of a bin. All other ice makers in the field fill ice bins using gravity to drop ice from the evaporator or a transport hose downward into a bin area. With ice dropping downward to the ice bin, one usually places a container in the ice bin prior to testing to segregate the ice harvested in the test from ice added to ice bin prior to testing as required by ASHRAE 29 Method of Testing Automatic Ice Makers. In the DCM-270BAH and DCM-270BAH-OS, ice is continuously pushed into the bottom of the ice bin until the quantity of ice in the ice bin reaches the bin control mechanism that triggers a stop function. This model was first released to the US market in 1994 as Hoshizaki model DCM-240BAB and has been updated through various model changes up to the most recent models DCM-270BAH and DCM-270BAH-OS.

3. Grounds for Waiver

Hoshizaki America's intent is to accurately test the ice harvest, energy, and water consumption based on the ASHRAE 29 Method of Testing Automatic Ice Makers test. As stated above, the unique design of the DCM-270BAH and DCM-270BAH-OS makes it impossible to accurately test ice harvest if you test as the test standard stipulates with the bin filled one-half full with ice prior to test. To accurately collect the ice produced in the time allotted by the ASHRAE 29 test we respectfully request to start each collection cycle with the ice bin empty. Since ice is formed in the evaporator and pushed up to the bottom of the ice bin, one cannot accurately segregate ice placed in the bin prior to the test from ice made in the collection period. Full instructions are specified in the following section Requirements Sought to be Waived.

4. Requirements Sought To Be Waived

The DOE test procedure refers to ASHRAE 29 Method of Testing Automatic Ice Makers for the testing of Automatic Commercial Ice Makers. The section for which we are requesting a waiver is as follows:

6.5 Bins shall be used when testing and shall be filled one-half full with ice. Ice makers that convey ice through a conduit to a remote bin shall be tested with the minimum length of conduit that can be used.

The issue with the test procedure with regards to this design is that filling the ice bin of the DCM-270BAH and DCM-270BAH-OS one-half full of ice prior to the test will cause a problem in being able to accurately record the ice produced during the test versus the total amount of ice placed in the bin prior to testing.

Hoshizaki America, Inc. is requesting an interim waiver and final waiver from this stipulation and requests the following variation to overcome this issue:

1. Remove front panel to ice maker

2. Insert bracket to hold shutter open during test. Shutter must be completely open to allow for dispensing of ice during test

3. Replace front panel

4. Start stabilization and capacity test with the bin empty

Hoshizaki America requests that DOE extend the scope of a waiver or an interim waiver to include future basic models employing the same technology as the basic models set forth in the original petition consistent with 10 CFR 431.401.

5. Identification of Basic Models

This Petition for Waiver and Application for Interim Waiver is made with respect to the Basic Model of an ice/water dispenser that incorporates a self-contained ice bin above a continuous ice making system. The system incorporates a dispensing motor to dispense ice to users on demand.

Specific Basic Models are:

Hoshizaki brand: DCM-270BAH and DCM-270BAH-OS

6. Economic Hardship

Hoshizaki America respectfully acknowledges that the inability to accurately test the specific models will leave them unable to provide proper test data to certify the models and list with the U.S. Department of Energy Compliance Certification Management System (CCMS). The inability to do so would leave Hoshizaki America unable to sell the models in the United States and thus cause a significant economic loss. Further, Hoshizaki America will be at a competitive disadvantage if the waiver and interim waiver are not approved.

7. Manufacturer's of Similar Products and Affected Manufacturers

To the best of our knowledge, Hoshizaki America is not aware of other manufacturers in the United States with this unique characteristic of having an ice bin directly above the ice making evaporator with ice pushed directly into the bottom of the ice bin.

Other manufacturers that sell commercial ice/water dispensers in the United States include Follett, Manitowoc, and Scotsman.

8. Likelihood of Success

By granting Hoshizaki America this Waiver and interim waiver, Hoshizaki America will be able to test the DCM-270BAH and DCM-270BAH-OS with great accuracy to ASHRAE 29 Method of Testing Automatic Ice Makers. Hoshizaki America sees no obstacles to accepting this petition.

9. Conclusion

For the above reasons, Hoshizaki America, Inc. requests that the U.S. Department of Energy grant the above Petition for an interim and final waiver. Hoshizaki America, Inc. would be pleased to discuss this petition and provide any additional information that the Department may require.

Thank you for your help in this matter.

Sincerely yours,

Stephen Schaefer

[FR Doc. 2020-15984 Filed 7-22-20; 8:45 am]

BILLING CODE 6450-01-P